DEPARTMENT OF TRANSPORTATION

Office of the Secretary

Agency Information Collection; Proposed Extension; Request for Comments; Uniform Administrative Requirements for Grants, and Cooperative Agreements to State and Local Governments

AGENCY: Notice and request for comments.

SUMMARY: In accordance with the Paperwork Reduction Act of 1995 (44 U.S.C. Chapter 35, as amended), this notice announces the Department of Transportation's (DOT) intention to request the extension of a previously approved collection.

DATES: Comments on this notice must be received by June 12, 2001.

ADDRESSES: Comments should be directed to the Grants Management Division (M-62), Office of The Senior Procurement Executive, Office of the Secretary, US Department of Transportation, 400 Seventh Street, SW., Washington, DC 20590.

FOR FURTHER INFORMATION CONTACT: Mr. Ladd Hakes, Grants Management Division (M-62), Office of the Senior Procurement Executive, Office of the Secretary, US Department of Transportation, 400 Seventh Street, SW., Washington, DC 20590, (202) 366-4284.

SUPPLEMENTARY INFORMATION: Title: Uniform Administrative Requirements For Grants and Cooperative Agreements to State and Local Governments.

Forms: SF 269, SF 270, SF 271, SF 272 and SF 424.

OMB Number: 2105-0520.

Expiration Date: September 30, 2001.

Type of Request: Extension of a previously approved collection.

Affected Public: State and local Governments.

Abstract: Information is required to meet the data requirements imposed by OMB Circular A-102 and the grant common rule, which the Department of Transportation codified at 49 CFR part 18. The information collected, retained and provided by the State and local government grantees is required to ensure grantee eligibility and their conformance with Federally mandated reporting requirements. OMB provides management and oversight of the circular. OMB also provides for a standard figure of seventy (70) annual burden hours per grantee for completion of required forms.

Respondents: State and local governments receiving Federal financial assistance from the Department of Transportation (DOT).

Estimated Number of Respondents: 1,795.

Average Annual Burden Per Respondent: 70 hours.

Estimated Total Burden on Respondents: 125,650 hours.

These information collections are available for inspection at the Grants Management Division (M-62), Office of Acquisition and Grant Management, Department of Transportation, at the address above. Copies of 49 CFR part 18 can be obtained from Mr. Ladd Hakes at the address and phone number shown above.

Comments are invited on: (a) Whether the proposed collection of information is necessary for the proper performance of the functions of the Department, including whether the information will have practical utility; (b) the accuracy of the Department's estimate of the burden of the proposed information collection; (c) ways to enhance the quality, utility, and clarity of the information to be collected; and (d) ways to minimize the burden of the collection of information on respondents, including the use of automated collection techniques or other forms of information technology.

All responses to this notice, will be summarized and included in the request for OMB approval. All comments will also become a matter of public record.

Issued in Washington, DC on April 9, 2001.
Ladd Hakes,
Acting Director, Grants Management Division.

[FR Doc. 01-9184 Filed 4-12-01; 8:45 am]

BILLING CODE 4910-62-P